DEPARTMENT OF AGRICULTURE

Grain Inspection, Packers and Stockyards Administration

Solicitation of Nominations for Members of the Grain Inspection Advisory Committee

AGENCY: Grain Inspection, Packers and Stockyards Administration, USDA.

ACTION: Notice to solicit nominees.

SUMMARY: The Grain Inspection, Packers and Stockyards Administration (GIPSA) is seeking nominations for individuals to serve on the Grain Inspection Advisory Committee (Advisory Committee). The Advisory Committee meets twice annually to advise GIPSA on the programs and services it delivers under the U.S. Grain Standards Act. Recommendations by the Advisory Committee help GIPSA better meet the needs of its customers who operate in a dynamic and changing marketplace.

DATES: GIPSA will consider nominations received by November 25, 2008.

ADDRESSES: Submit nominations for the Advisory Committee by completing form AD-755. Nominations may be submitted by:

• E-Mail: Terri.L.Henry@usda.gov.

• Mail: Terri Henry, GIPSA, USDA, 1400 Independence Ave., SW., Room 1633-S, Stop 3642, Washington, DC 20250-3642.

• Fax: (202) 690-2173.

• Hand Delivery or Courier: Terri Henry, GIPSA, USDA, 1400 Independence Ave., SW., Room 1633-S, Stop 3642, Washington, DC 20250-3642.

• Internet: Go to http://www.regulations.gov and follow the online instructions for submitting comments.

FOR FURTHER INFORMATION CONTACT: Terri L. Henry, telephone (202) 205-8281 or e-mail Terri.L.Henry@usda.gov.

SUPPLEMENTARY INFORMATION: As required by section 21 of the United States Grain Standards Act (USGSA) (7 U.S.C. 87j) as amended, the Secretary of Agriculture established the Grain Inspection Advisory Committee on September 29, 1981, to provide advice to the GIPSA Administrator on implementation of the USGSA. The current authority for the Advisory Committee expires on September 30, 2015. As specified in the USGSA, each member's term is 3 years and no member may serve successive terms.

As required by the USGSA, the Advisory Committee consists of 15 members, appointed by the Secretary, who represent the interests of grain producers, processors, handlers, merchandisers, consumers, exporters, and scientists with expertise in research related to the policies in section 2 of the USGSA (7 U.S.C. 74). Members of the Advisory Committee serve without compensation. GIPSA may reimburse members for travel expenses, including per diem in lieu of subsistence, for travel away from their homes or regular places of business in performance of Advisory Committee service (see 5 U.S.C. 5703).

A list of current Advisory Committee members and other relevant information are available on the GIPSA Web site at http://www.gipsa.usda.gov. Under the section “I Want To * * *” select “Learn about the Advisory Committee.”

GIPSA is seeking nominations for individuals to serve on the Advisory Committee to replace six members and three alternate members whose terms will expire in March 2009.

Persons interested in serving on the Advisory Committee or nominating another individual to serve, may contact: Terri L. Henry by telephone at 202-205-8281, by fax at 202-690-2173, or by electronic mail at Terri.L.Henry@usda.gov to request Form AD-755. Form AD-755 may also be obtained via GIPSA's Web site at http://www.gipsa.usda.gov. Under the section “I Want To * * *” select “Learn about the Advisory Committee,” then select Form AD-755. Nominations are open to all individuals without regard to race, color, religion, gender, national origin, age, mental or physical disability, marital status, or sexual orientation. To ensure that recommendations of the Advisory Committee take into account the needs of the diverse groups served by the USDA, membership shall include, to the extent practicable, individuals with demonstrated ability to represent minorities, women, and persons with disabilities.

The final selection of Advisory Committee members and alternates is made by the Secretary of Agriculture.

James E. Link,
Administrator, Grain Inspection, Packers and Stockyards Administration.

[FR Doc. E8-22675 Filed 9-25-08; 8:45 am]

BILLING CODE 3410-KD-P